DEPARTMENT OF HEALTH AND HUMAN SERVICES

Notice of Opportunity To Co-Sponsor OMH National Minority Health Month Steps Challenge

AGENCY: Office of the Secretary, Office of the Assistant Secretary for Health, Office of Minority Health (OMH), Department of Health and Human Services.

ACTION: Notice.

SUMMARY: OMH announces the opportunity for public and non-profit entities to co-sponsor the National Minority Health Month National Steps Challenge for April 2019. Potential co-sponsors must have a demonstrated interest in reducing health disparities among minority communities, advancing the HHS Physical Activity Guidelines and improving the health of Americans through promoting regular physical activity.

DATES: To receive consideration for this opportunity, a two-page proposal to participate as a co-sponsor must be received by OMH by 5 p.m. EST on March 7, 2019 at the address listed below. Co-sponsorship proposals will meet the deadline if they are either (1) received or (2) postmarked on or before the deadline. Privately metered postmarks will not be accepted as proof of timely mailing. Proposals received after the established deadline will not be considered.

ADDRESSES: Proposals for co-sponsorship should be sent to Mr. Anthony Welch, HHS Office of Minority Health, 1101 Wootton Parkway, Suite 600, Tower Building, Rockville, Maryland 20852. Requests may also be emailed to Anthony.Welch@hhs.gov.

FOR FURTHER INFORMATION CONTACT: Mr. Anthony Welch, HHS Office of Minority Health Quality, 1101 Wootton Parkway, Suite 600, Tower Building, Rockville, Maryland 20852; (240) 453-2882.

SUPPLEMENTARY INFORMATION: The mission of the Office of Minority Health (OMH) at the U.S. Department of Health and Human Services (HHS) is to improve the health of racial and ethnic minority populations through the development of health policies and programs that will help eliminate health disparities. Key strategies of the OMH mission include:

• Developing and promoting policies, programs and practices to achieve health equity;

• Funding demonstration programs at the regional, state and local level that can contribute to health policy and the effectiveness of strategies for improving health;

• Improving data collection, reporting and sharing for ethnic and racial minority populations;

• Fostering research and evaluation; and

• Establishing and strengthening networks, coalitions and partnerships to identify and solve health problems.

OMH observes National Minority Health Month every year in April to highlight the health disparities that persist among racial and ethnic minority populations and the ways in which policies, programs and partnerships can help advance health equity. The HHS OMH establishes the national theme and serves as the lead HHS office for the observance of National Minority Health Month.

The theme for 2019 is Active & Healthy and is intended to help promote the second edition of the HHS Physical Activity Guidelines and the Move Your Way Campaign from the HHS Office of Disease Prevention and Health Promotion, especially among racial and ethnic minorities. OMH's main activity for this year's observance is the National Minority Health Month Steps Challenge (Challenge). The Challenge will occur throughout the month of April and OMH will enlist teams and individuals to participate from federal, state and local governments, community-based organizations and tribal communities, who want to show their commitment to an active lifestyle. Activities and materials throughout the month will highlight the overall message that physical activity promotes health and reduces the risk of chronic disease.

Eligibility for Co-Sponsorship

To be eligible, a potential co-sponsor shall: (1) Have a demonstrated understanding, commitment, and experience in conducting large-scale steps challenges; (2) be knowledgeable about strategies to promote health & active lifestyles; (3) have a track record and the ability to manage an online platform to host multiple teams in the challenge; (4) participate substantively in the co-sponsored activity, not just provide logistical support; and (5) have an organizational mission that is consistent with OMH and HHS. The selected co-sponsoring organization shall furnish the necessary personnel, materials, services, and facilities to administer its proposed portion of the responsibility for the Challenge. These duties will be outlined in a co-sponsorship agreement with OMH that will set forth the details of the co-sponsored activity.

Co-Sponsorship Proposal

Each co-sponsorship proposal shall contain a description of: (1) The entity or organization's background and history; (2) its ability to satisfy the co-sponsorship criteria detailed above; and (3) its proposed involvement in the co-sponsored activity. The co-sponsorship proposal should not exceed two (2) pages in length and should be double-spaced in Times New Roman.

Evaluation Criteria

After engaging in exploratory discussions with potential co-sponsors that respond to this notice, representatives of OMH will select the co-sponsor using the following evaluation criteria:

(1) Qualifications and capability to fulfill co-sponsorship responsibilities;

(2) Creativity related to enhancing the National Minority Health Month event;

(3) Potential for reaching and generating participants from among key stakeholders, including federal, state and local organizations, member-based organizations and the general public.

(4) Experience operating steps challenges;

(5) Past or current work specific to health equity and physical activity promotion;

(6) Professional qualifications and specific expertise with promoting physical activity;

(7) Availability and description of online platform to support the challenge; and

(8) Proposed plan for managing the co-sponsorship with OMH.

Dated: February 15, 2019.
Felicia Collins,
Capt., Deputy Assistant Secretary for Minority Health, (HHS Office of Minority Health).

[FR Doc. 2019-03296 Filed 2-25-19; 8:45 am]

BILLING CODE 4150-29-P